DEPARTMENT OF ENERGY

Federal Energy Regulatory Commission

[Project No. 9842-006]

Mr. Ray F. Ward; Notice of Application Accepted for Filing and Soliciting Motions to Intervene and Protests

Take notice that the following hydroelectric application has been filed with the Commission and is available for public inspection.

a. Type of Application: Minor New License.

b. Project No.: 9842-006.

c. Date filed: August 28, 2014.

d. Applicant: Mr. Ray F. Ward.

e. Name of Project: Ward Mill Hydroelectric Project.

f. Location: On the Watauga River, in the Township of Laurel Creek, Watauga County, North Carolina. The project does not occupy lands of the United States.

g. Filed Pursuant to: Federal Power Act, 16 U.S.C. 791(a)-825(r).

h. Applicant Contact: Andrew C. Givens, Cardinal Energy Service, Inc., 620 N. West St., Suite 103, Raleigh, North Carolina 27603, (919) 834-0909.

i. FERC Contact: Adam Peer (202) 502-8449, adam.peer@ferc.gov.

j. Deadline for filing motions to intervene and protests and requests for cooperating agency status: 60 days from the issuance date of this notice.

The Commission strongly encourages electronic filing. Please file motions to intervene and protests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-9842-006.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, but is not ready for environmental analysis at this time.

l. The Ward Mill Project consists of: (1) A 130-foot-long by 20-foot-high dam; (2) a 4.6 acre reservoir with an estimated gross storage capacity of 16.3 acre-feet; (3) a 14-foot-long, 5-foot-wide, and 7.5-foot-tall penstock made of rock, concrete and reinforced steel; (4) a powerhouse containing two generating units for a total installed capacity of 168 kilowatts; (5) a 45-foot-long, 12-kilovolt transmission line; and (6) appurtenant facilities. The project is estimated to generate from below 290,000 to over 599,000 kilowatt-hours annually. The dam and existing facilities are owned by the applicant. No new project facilities are proposed.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Dated: January 28, 2015.
Kimberly D. Bose,
Secretary.

[FR Doc. 2015-02114 Filed 2-3-15; 8:45 am]

BILLING CODE 6717-01-P